DEPARTMENT OF HOMELAND SECURITY

Coast Guard

33 CFR Part 117

[Docket No. USCG-2016-0257]

RIN 1625-AA09

Drawbridge Operation Regulation; Delaware River, Pennsauken Township, NJ

AGENCY: Coast Guard, DHS.

ACTION: Notice of proposed rulemaking; reopening comment period.

SUMMARY: The Coast Guard is reopening the comment period to solicit additional comments concerning the notice of proposed rulemaking (NPRM), which published on June 30, 2017. Reopening the comment period will allow the public to provide input on the proposed change to the regulation governing the DELAIR Memorial Railroad Bridge across the Delaware River, mile 104.6, at Pennsauken Township, NJ.

DATES: The comment period for the proposed rule published June 30, 2017, at 82 FR 29800, is reopened. Comments and related material must reach the Coast Guard on or before August 17, 2018.

ADDRESSES: You may submit comments identified by docket number USCG-2016-0257 using Federal eRulemaking Portal at http://www.regulations.gov. See the “Public Participation and Request for Comments” portion of the SUPPLEMENTARY INFORMATION section below for instructions on submitting comments.

FOR FURTHER INFORMATION CONTACT: If you have questions on this proposed rule, call or email Mr. Hal R. Pitts, Fifth Coast Guard District (dpb); telephone (757) 398-6222, email Hal.R.Pitts@uscg.mil.

SUPPLEMENTARY INFORMATION:

I. Background and Purpose

On June 30, 2017, we published a notice of proposed rulemaking (NPRM) entitled, “Drawbridge Operation Regulation; Delaware River, Pennsauken Township, NJ” in the Federal Register (82 FR 29800). The original comment period closed on August 18, 2017. The NPRM proposed changes to the regulation governing the DELAIR Memorial Railroad Bridge across the Delaware River, mile 104.6, at Pennsauken Township, and contained useful background and analysis related to the proposed changes. The installation of the remote operation system did not change the operational schedule of the bridge.¹ The public is encouraged to review the NPRM.

¹ A full description of the remote operational system is outlined in the aforementioned publication, which can be found at http://regulations.gov. (see ADDRESSES for more information).

On April 12, 2017, we published a temporary deviation entitled “Drawbridge Operation Regulation; Delaware River, Pennsauken Township, NJ” in the Federal Register (82 FR 17561). During the initial test deviation performed from 8 a.m. on April 24, 2017, through 7:59 a.m. on October 21, 2017, the bridge owner identified deficiencies in the remote operation center procedures, bridge to vessel communications, and equipment redundancy.

The bridge owner implemented policies and provided training to address the procedural and communications deficiencies, and implemented backup systems to mitigate potential equipment and systems failures. These changes were not fully evaluated during the temporary deviation ending October 21, 2017. Therefore, the Coast Guard decided to issue a second temporary deviation (“Drawbridge Operation Regulation; Delaware River, Pennsauken Township, NJ” in the Federal Register (82 FR 48419), to complete the evaluation of the changes incorporated into the remote operation system.

On December 6, 2017, we published a notice of proposed rulemaking; reopening of comment period (NPRM); entitled “Drawbridge Operation Regulation; Delaware River, Pennsauken Township, NJ” in the Federal Register (82 FR 57561). This notice included a request for comments and related material to reach the Coast Guard on or before January 15, 2018.

On January 22, 2018, we published a notice of temporary deviation; reopening of comment period; entitled “Drawbridge Operation Regulation; Delaware River, Pennsauken Township, NJ” in the Federal Register (83 FR 2909). This notice included a request for comments and related material to reach the Coast Guard on or before March 2, 2018.

On February 15, 2018, we published a notice of proposed rulemaking; reopening comment period; entitled “Drawbridge Operation Regulation; Delaware River, Pennsauken Township, NJ” in the Federal Register (see 83 FR 6821). This notice included a request for comments and related material to reach the Coast Guard on or before March 2, 2018.

The Coast Guard has reviewed 25 comments posted to the docket, six reports with supporting documentation submitted by the bridge owner during the initial and second temporary deviations, and other information concerning the remote operation system of the DELAIR Memorial Railroad Bridge. Through this review, the Coast Guard found that further testing and evaluation of the remote operation system of the drawbridge is necessary before making a decision on the proposed regulation. The Coast Guard has issued a third temporary deviation from 8 a.m. on April 19, 2018, through 7:59 a.m. on October 16, 2018, to provide sufficient time for further testing and evaluation of the remote operation system of the DELAIR Memorial Railroad Bridge.

During this temporary deviation, the following changes have been implemented: (1) The on-site bridge tender will be removed from the bridge, (2) qualified personnel will return and operate the bridge within 60 minutes if the remote operation system is considered in a failed condition,² and (3) comments concerning the utility and value of the automated identification system (AIS) are requested.

² The conditions in which the remote operation system will be considered in a failed condition are detailed in the Supplementary Information: III. Discussion of Proposed Rule section of the Notice of Proposed Rulemaking (NPRM), which can be found at: http://regulations.gov, (see ADDRESSES for more information).

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. We accept anonymous comments. All comments received will be posted without change to http://www.regulations.gov and will include any personal information you have provided. For more about privacy and the docket, visit http://www.regulations.gov/privacyNotice.

Documents mentioned in this NPRM as being available in this docket, as well as all public comments, will be in our online docket at http://www.regulations.gov and can be viewed by following that website's instructions. Additionally, if you go to the online docket and sign up for email alerts you will be notified when comments are posted or a final rule is published.

M.L. Austin,
Rear Admiral, U.S. Coast Guard, Commander, Fifth Coast Guard District.

[FR Doc. 2018-09531 Filed 5-3-18; 8:45 am]

BILLING CODE 9110-04-P